DEPARTMENT OF THE TREASURY

Submission for OMB Review; Comment Request

July 31, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 8, 2003 to be assured of consideration.

Internal Revenue Service (IRS)

OMB Number: 1545-0644.

Form Number: IRS Form 6781.

Type of Review: Extension.

Title: Gains and Losses from Section 1256 Contracts and Straddles.

Description: Form 6781 is used by taxpayers in computing their gains and losses from Section 1256 contracts and straddles and their special tax treatment. The data is used to verify that the tax reported accurately reflects any such gains and losses.

Respondents: Business or other for-profit, Individuals or households.

Estimated Number of Respondents/Recordkeepers: 100,000.

Estimated Burden Hours Per Respondent/Recordkeeper:

Recordkeeping | 14 hr., 6 min.
Learning about the law or the form | 2 hr., 3 min.
Preparing the form | 3 hr., 18 min.
Copying, assembling, and sending the form to the IRS | 16 min.

Frequency of Response: Annually.

Estimated Total Reporting/Recordkeeping Burden: 1,974,000 hours.

OMB Number: 1545-1326.

Form Number: IRS Form 2555-EZ.

Type of Review: Extension.

Title: Foreign Earned Income Exclusion.

Description: Form 2555-EZ is used by U.S. citizens and resident aliens who qualify for the foreign earned income exclusion. This information is used by the Service to determine if a taxpayer qualifies for the exclusion. This form is a less burdensome form that is used where foreign earned income is $80,000 or less.

Respondents: Individuals or households.

Estimated Number of Respondents/Recordkeepers: 43,478.

Estimated Burden Hours Per Respondent/Recordkeeper:

Recordkeeping | 26 min.
Learning about the law or the form | 17 min.
Preparing the form | 42 min.
Copying, assembling, and sending the form to the IRS | 31 min.

Frequency of Response: Annually.

Estimated Total Reporting/Recordkeeping Burden: 84,783 hours.

OMB Number: 1545-1818.

Revenue Procedure Number: Revenue Procedure 2003-38.

Type of Review: Extension.

Title: Commercial Revitalization Deduction.

Description: Pursuant to § 1400I of the Internal Revenue Code, this procedure provides the time and manner for states to make allocations of commercial revitalization expenditures to a new or substantially rehabilitated building that is placed in service in a renewal community.

Respondents: State, Local or Tribal Government, Business or other for-profit.

Estimated Number of Respondents: 80.

Estimated Burden Hours Per Respondent: 2 hours, 30 minutes.

Frequency of Response: On occasion.

Estimated Total Reporting Burden: 200 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building,Washington, DC 20503.

Mary A. Able,
Departmental Reports, Management Officer.

[FR Doc. 03-20136 Filed 8-6-03; 8:45 am]

BILLING CODE 4830-01-P